DEPARTMENT OF JUSTICE

National Institute of Corrections

Solicitation for a Cooperative Agreement—Women Offenders: Gender Responsive Approaches to Risk and Need Assessment

AGENCY: National Institute of Corrections, Department of Justice

ACTION: Solicitation for a cooperative agreement.

SUMMARY: The National Institute of Corrections is seeking through a cooperative agreement award to fund further support, development and dissemination of the Women's Risk and Need Assessment Instruments. The Women's Risk and Need Assessment Instruments were developed via a cooperative agreement with a national university and include gender responsive assessments for use in institutional settings and community settings (probation, parole).

Funds are available for tasks involved in ongoing support of jurisdictions seeking to implement the Women's Risk and Need Assessment Instruments. Included in this work will be: (a) Further dissemination of materials and assessments to interested users; (b) technical assistance to jurisdictions planning to implement the gender-responsive tools; (c) assisting agency efforts to utilize the assessments; and (d) conducting research to further validate and refine the assessment instruments.

DATES: Applications must be received by 4 p.m. EST on Wednesday, June 24, 2009.

ADDRESSES: Mailed applications must be sent to: Director, National Institute of Corrections, 320 First Street, NW., Room 5007, Washington, DC 20534. Applicants are encouraged to use Federal Express, UPS, or a similar service to ensure delivery by the due date, as mail at NIC is sometimes delayed due to security screening.

Applicants who wish to hand-deliver their applications should bring them to 500 First Street, NW., Washington, DC 20534, and dial 202-307-3106, ext. 0, at the front desk for pickup.

Faxed or e-mailed applications will not be accepted.

FOR FURTHER INFORMATION CONTACT: A copy of this announcement and the required application forms can be downloaded from the NIC web page at http://www.nicic.gov/cooperativeagreements.

All technical questions concerning this announcement should be directed to Pam Davison at 202-353-0484 or at pdavison@bop.gov

SUPPLEMENTARY INFORMATION:

Background: Over the past two decades NIC has had a deliberate focus on women offenders. With the recent emergence of evidence-based practices in criminal justice, NIC has taken the opportunity to combine two bodies of work (gender responsive research and knowledge focusing on women and evidence based practices) into products designed to improve outcomes for criminal justice involved women.

Over the years, jurisdictions managing women offenders were becoming increasingly concerned about the rapid growth of female offender populations, exceeding the rate of growth in male offender populations and adverse consequences in the application of gender-neutral instruments to assess and classify women. Surveys of state correctional classification directors revealed that only 14 systems had instruments that were validated with populations of women. Instruments not validated for women were creating over classification, often with women being held in more austere conditions than warranted by their risk.

In 2002 NIC held a `gender-responsive assessment meeting' attended by prominent researchers in correctional and women offender research, Federal agency representatives with responsibilities for correctional research, and practitioners who required accurate assessments of women to manage programs and institutions effectively. Key findings from the event were numerous and concerns were raised that traditional emphasis on risk was largely misplaced with women, there may be other factors with improved predictability for women, and assessing treatment and programming needs, separate from risk but likely impacting risk, should be further explored. Recommendations from the event included continuing to advance the theoretical underpinning of gender-specific assessment, further the body of research in this field by developing a research agenda and the development of ethical and scientific standards for this research; establishing quality control/monitoring mechanisms; exploring issues related to women's behavior in general and women's criminal behavior in particular; funding demonstration projects that emphasize research design and replicability; and provide technical assistance for the implementation of improved assessment practices and for testing models and processes.

The recommendations were acted upon. A collaborative effort between several state and local correctional agencies, NIC and a national university was formed and the construction and validation of two gender-responsive risk and needs assessments for women offenders were created. The instruments are a result of a multi-year collaboration covering design research and data collection procedures; project implementation and support; data collection; scale construction at designated sites; IRB approvals; training site staff in data collection and research protocols; travel to sites and preparation of research articles and presentations.

The empirical foundation of the two instruments was drawn from two offender rehabilitation perspectives: (1) Canadian researchers (Paul Gendreau, Donald Andrews, James Bonta and others) emphasizing the importance of assessing and treating dynamic risk factors and (2) feminist criminologists stressing the “pathways” to crime research (Kathleen Daley, Joanne Belknap, Barbara Bloom, Stephanie Covington, Barbara Owen, Meda Chesney-Lind and others). Both bodies of research are fundamental to assessing and programming for dynamic risk factors specific to women. However, the “pathways” model asserts that women's unique needs are not adequately tapped by the current risk/need instruments. The two new women's assessments identify needs such as trauma and abuse; unhealthy relationships; parental stress; depression; and self efficacy.

These two assessments are (1) A Gender Responsive Risk/Needs Interview—this is a stand-alone risk needs instrument identifying needs noted to be predictive of offense-related outcomes for women, and (2) The “Trailer”—this assessment serves as an addendum to established gender neutral assessment (e.g. Northpointe Compas, LSI-R, etc.), allowing systems using those instruments to access areas that guide programming explicitly for women. For further information on these two instruments, refer to http://www.uc.edu/womenoffenders.

The interest in the instruments has been strong. A number of jurisdictions are in the implementation and validation process while additional jurisdictions are contemplating the implementation and validation of one of the two instruments. Data continues to be collected and gender responsive measures of specific risk and need factors continue to be refined. In order to meet the needs of the field and maintain quality control with the instruments, a number of strategies, noted in this request for application, will be employed.

Scope of Work/Products: It is expected that the Women Offenders: Gender-Responsive Approaches to Risk/Needs Assessment award will include:

(1) Dissemination of products to include fielding inquiries from interested parties; making assessments available for review; conducting on-line events (training, presentations) regarding use of assessments; presenting at professional conferences; preparing publications for refereed journals and newsletters; maintaining the assessment instrument registration process for purposes of quality control and fidelity; and maintaining a web page with detailed explanation of the assessments, listing all relevant publications and training opportunities.

The dynamic Web site will also contain information on psychometric properties and notification of any changes to assessment tools.

(2) Provision of Technical Assistance in conjunction with NIC to requesting jurisdictions contemplating the use of the assessments. Services would include (a) evaluating a site's existing classification systems; (b) tailoring new assessments to system-specific needs; and (c) recommending implementation plans.

(3) Developing agency capacity to administer the assessments and use them for case planning purposes—refine training materials to incorporate emerging information; provide ongoing support to agencies during the implementation process, and address the technical questions of those using the tools; train staff to administer the assessment; development of a curriculum to build capacity for training assessors; and conducting the training sessions.

(4) Further validation of the assessment—designing and conducting ongoing validation studies of the assessment instruments; incorporate changes that result from ongoing field tests and research findings and further developing assessment manuals and scoring guides.

Deliverables: At the end of the 18 month period, tangible products should include, at a minimum, reports and materials used for each technical assistance event, documentation of site inquiries and support provided, detailed web page, finalized assessment manual and scoring guide.

Budget and Strategy Narratives: The applicant's submission narrative should include suggested protocols and estimated costs for technical assistance, assisting agencies in implementation and support process.

Document Preparation: For all awards in which a document will be a deliverable, the awardee must follow the Guidelines for Preparing and Submitting Manuscripts for Publication as found in the “General Guidelines for Cooperative Agreements” which will be included in the award package.

Application Requirements: An application package must include OMB Standard Form 425, Application for Federal Assistance; a cover letter that identifies the audit agency responsible for the applicant's financial accounts as well as the audit period or fiscal year that the applicant operates under (e.g., July 1 through June 30); and an outline of projected costs with the budget and strategy narratives described in this announcement. The following additional forms must also be included: OMB Standard Form 424A, Budget Information—Non-construction Programs; OMB Standard Form 424B, Assurances—Non-construction Programs (both available at http://www.grants.gov); DOJ/FBOP/NIC Certification Regarding Lobbying, Debarment, Suspension and Other Responsibility Matters; and the Drug-Free Workplace Requirements (available at http://www.nicic.org/Downloads/PDF/certif-frm.pdf).

Applications should be concisely written, typed double-spaced and reference the NIC Opportunity Number and Title provided in this announcement.

If you are hand delivering or submitting via Fed Ex, please include an original and three copies of your full proposal (program and budget narrative, application forms, assurances and other descriptions). The original should have the applicant's signature in blue ink. Electronic submissions will only be accepted via http://www.grants.gov.

The narrative portion of the application should include, at a minimum: Brief paragraph indicating the applicant's understanding of the project's purpose; brief paragraph that summarizes the project goals and objectives; clear description of the methodology that will be used to complete the project and achieve its goals; statement or chart of measurable project milestones and time lines for the completion of each milestone; description of the qualifications of the applicant organization and a resume for the principal and each staff member assigned to the project that documents relevant knowledge, skills and ability to carry out the project; budget that details all costs for the project, and noting a commitment to work within the proposed budget.

The total narrative portion of the application should not exceed ten double-spaced type written pages, excluding attachments related to credentials and relevant experience of staff.

Authority: Public Law 93-415.

Funds Available: NIC is seeking the applicant's best ideas regarding accomplishments of the scope of the work and the related costs for achieving the goals and objectives of this solicitation. Funds may only be used for the activities that are linked to the desired outcome of the project.

Eligibility of Applicants: An eligible applicant is any state or general unit of local government, private agency, educational institution, organization, individual or team with expertise in the described areas. Applicants must have demonstrated the ability to implement a project of this size and scope.

Review Considerations: Applications received under this announcement will be subjected to a 3-5 person NIC Review Process. The criteria for the evaluation of each application will include:

Organizational/Staff Background

An application review panel will review the background, experience and expertise of the proposed project staff, including subcontractors. Does staff have previous demonstrated experience and knowledge in the theory, research and practical application of gender-responsive strategies for criminal justice involved women? Does the staff have a clear understanding of evidence based practices, the evolution of offender assessment instruments for risk management, as well as treatment planning? Can staff speak to the utility of blending the two bodies of work to improve outcomes for women offenders? Is the number of staff involved realistic and appropriate for the scope of the work, and does the applicant have the capacity to deliver all aspects of the project on time? Is there a reason that each member of the proposed team has been included?

Project Design/Content

Does the applicant clearly understand the goals of this project? Is the practical application of research-based principles and gender-responsive strategies specific to women evident in the project design? Are project tasks, time lines, benchmarks and expected objectives evident? How sound are the technical strategies proposed? Have the strategies been demonstrated to be effective in other projects? Are the final work products identified, and do the proposed strategies lead to their completion within the time frame? Are there innovative approaches, techniques, or design aspects proposed that will enhance the project? How will the applicant measure its own performance and the performance of adjunct team members? Is the applicant willing to work with NIC staff as necessary?

Budget

Does the budget narrative clearly tie to the numbers, and can the products be delivered on the desired time line, within the proposed budget? Are the final work products clearly defined and identified on the work plan? Is a Gantt chart provided that aligns budget with objectives along a time line that shows, at a minimum, quarterly benchmarks?

Note: NIC will NOT award a cooperative agreement to an applicant who does not have a Dun and Bradstreet Data Universal Number (DUNS) and is not registered in the Central Contractor Registry (CCR).

Applicants can receive a DUNS number at no cost by calling the dedicated toll-free DUNS number request line at 800-333-0505 (if you are sole proprietor, dial 866-705-5711 and select option 1).

Applicants may register online with CCR at the Web site: http://www.ccr.gov. A CCR handbook and worksheet can also be reviewed at the Web site.

Number of Awards: One.

Applicant's Conference: An applicant's telephone conference will be held June 3, 2009 between 12 noon EST and 1 pm EST. Applicants who are interested in participating in this applicant's conference call should indicate their expectation to participate by e-mailing Pam Davison at pdavison@bop.gov no later than 12 noon on June 1, 2009. This telephone conference will give applicants the opportunity to ask questions about the project and the application procedures. Participation in the telephone conference is optional.

Note that interested applicants need to provide complete contact information, including e-mail address and phone number, to Pam Davison when they indicate their expectation to participate.

NIC Opportunity Number: 09M12. This number should appear as a reference line in the cover letter, where the opportunity number is requested on the Standard Form 424, and outside of the envelope in which the application is sent.

Catalog of Federal Domestic Assistance Number: 16.602

Executive Order 12372. This project is not subject to the provisions of Executive Order 12372.

Morris L. Thigpen,
Director, National Institute of Corrections.

[FR Doc. E9-11530 Filed 5-15-09; 8:45 am]

BILLING CODE 4410-36-P